Title 3—

The President

Proclamation 10096 of October 6, 2020

Birthday of Founding Father Caesar Rodney

By the President of the United States of America

A Proclamation

Today is the 292nd birthday of Founding Father Caesar Rodney. Rodney was a soldier, a sheriff, a justice on the Delaware Supreme Court, a delegate from Delaware to the Continental Congress, a Brigadier General in the Continental Army, and a signer of the Declaration of Independence. He is an American legend.

Rodney rode into American history when, despite suffering from cancer and asthma, he traveled 80 miles overnight from Dover to Philadelphia through a raging thunderstorm in time to cast Delaware's deciding vote for independence on July 2, 1776. His heroic act helped ensure that the Declaration of Independence would be passed unanimously. Upon entering Independence Hall, Rodney is said to have uttered these words: “As I believe the voice of my constituents and all sensible and honest men is in favor of independence, and as my own judgment concurs with them, I give my vote for independence.”

Rodney was not just a Founding Father, he was a fighter for American freedom, serving under the command of General George Washington at Trenton during the Revolution. Washington bestowed his “sincerest thanks” for Rodney's service, commending his character as deserving of the “highest honor” and describing his devotion to the American cause as “the most distinguished.”

After the Revolution, Rodney continued to fight through cancer and serve the State of Delaware as Speaker of the Upper House of its General Assembly. As the years went by, Rodney's cancer grew worse. Finally, he became so weak that he could not travel to participate in the legislative session. But Rodney's presence was so significant and his statesmanship was so revered by his fellow colleagues that they would not proceed without him and voted to meet at Rodney's own home so that he could still lead them from his bed.

For more than two centuries, Delaware honored the patriotism and sacrifice of Caesar Rodney. In 1934, Delaware donated a statue of Caesar Rodney holding the Declaration of Independence to the United States Capitol. In 1976, the State issued a postage stamp commemorating Caesar Rodney to celebrate the bicentennial, and the Delaware Bicentennial Commission published an entire history of Rodney's life, proclaiming him “Delaware's hero for all times and all seasons,” “the patron saint of his native state,” and “Delaware's principal hero of the American Revolutionary War.” The 1999 State Quarter of Delaware bears Caesar Rodney's image. At the University of Delaware, students live in Caesar Rodney Residence Hall. Boy Scouts in Delaware travel the historic Caesar Rodney Trail. Each year, Delaware residents participate in the Caesar Rodney Half Marathon and 5K. In Camden, both the High School and School District are named after Caesar Rodney, and one can drive down Caesar Rodney Avenue.

Even the Federal Government has taken action to preserve the memory of Caesar Rodney and honor the history of Rodney's ride for independence. In 2013, President Obama designated the First State National Monument in Delaware, which protected as an object of “historic interest” the very assembly room where Caesar Rodney introduced a bill to prohibit the importation of slaves into Delaware and where Rodney presided as Speaker when the Delaware Assembly declared independence from the British Crown in 1776. At the First State National Monument, park officials tell the story of Caesar Rodney's 18-hour ride through severe storms to vote for the Declaration of Independence.

But today, the memory and remarkable history of Caesar Rodney's midnight ride is at risk of being erased forever. In the center of downtown Wilmington, Delaware is Rodney Square, named after Caesar Rodney. Until recently, a majestic equestrian statue of Caesar Rodney riding to Philadelphia had stood there for nearly a century. In 2011, Rodney Square and the Caesar Rodney Equestrian Statue were placed on the National Register of Historic Places after the State of Delaware nominated them for the honor. The nomination notes that, at the time of its design, the Caesar Rodney Equestrian Statue was “considered by many sculptors to be one of the most beautiful equestrian statues in the world.” But, on June 12, 2020, the Caesar Rodney Equestrian Statue was removed as part of an ongoing, radical purge of America's founding generation.

The empty pedestal in Rodney Square in Wilmington is the end result of an extreme anti-American historical revisionism propagated by organizations like the New York Times and its 1619 Project, critical race theorists on college campuses, cancel culture adherents in corporate boardrooms, and flag-burning mobs on city streets who seek to reframe our Nation's history around the idea that the United States is not an exceptional country but an evil one. Caesar Rodney is an early casualty of these reckless “re-education” attempts that, if allowed to progress, will erase the names of every one of the heroes of 1776 from American memory and blot out their noble legacy from the history books. The students of Howard Zinn and the 1619 Project have already pledged to remove the Jefferson Memorial and the Washington Monument next. If Caesar Rodney cannot be defended, then there is no principle by which the other signers of the Declaration can be shielded from similar eradication.

Radicals will continue their efforts to tear down our Founding Fathers until Americans demand that it stop and demand that the truth of American history be once again taught in our schools. That is why, on Constitution Day, I announced the creation of a new national commission to promote patriotic education. The “1776 Commission” will champion efforts to teach the truth about America's heroic founding and make plans to honor the 250th anniversary of the American founding.

At the White House Conference on American History, I also announced that a statue of Caesar Rodney would be added to the National Garden of American Heroes, a vast outdoor park that will feature the statues of the greatest Americans who have ever lived. As I said this past Constitution Day, “America will give this Founding Father, this very brave man, who was so horribly treated, the place of honor he deserves.”

Today, we celebrate the life and legacy of a patriot who rode as hard and as fast as he could to pledge his life, his fortune, and his sacred honor to the cause of American Independence and American Freedom. On Caesar Rodney's 292nd birthday, I proclaim that his name will never be forgotten or removed from the record of history and his heroic ride for independence will be honored, preserved, and remembered for centuries to come.

NOW, THEREFORE, I, DONALD J. TRUMP, President of the United States of America, by virtue of the authority vested in me by the Constitution and the laws of the United States, do hereby proclaim October 7, 2020, as the 292nd Anniversary of the birth of Caesar Rodney. I invite the people of the United States to observe the day in schools and churches and customary places of meeting with appropriate ceremonies in commemoration of the birth of Caesar Rodney.

IN WITNESS WHEREOF, I have hereunto set my hand this sixth day of October, in the year of our Lord two thousand twenty, and of the Independence of the United States of America the two hundred and forty-fifth.

[FR Doc. 2020-22907

Filed 10-13-20; 11:15 am]

Billing code 3295-F1-P